DEPARTMENT OF JUSTICE

Antitrust Division

Notice Pursuant to the National Cooperative Research and Production Act of 1993—Medical CBRN Defense Consortium

Notice is hereby given that, on April 30, 2020, pursuant to Section 6(a) of the National Cooperative Research and Production Act of 1993, 15 U.S.C. 4301 et seq. (“the Act”), Attorney General and the Federal Trade Commission (“MCDC”) has filed written notifications simultaneously with the Attorney General and the Federal Trade Commission disclosing changes in its membership. The notifications were filed for the purpose of extending the Act's provisions limiting the recovery of antitrust plaintiffs to actual damages under specified circumstances. Specifically 7 Hills Pharma LLC; Houston, TX; Arisan Therapeutics; San Diego, CA; Biostealth, Inc.; Durham, NC; Bluejay Diagnostics, Inc.; Acton, MA; Chenega Reliable Services, LLC; San Antonio, TX; Claremont BioSolutions, Inc.; Upland, CA; Cleveland Diagnostics, Inc.; Cleveland, OH; CytoDel, Inc.; New York, NY; Data Intelligence Technologies, Inc; Arlington, VA; Darwin Biosciences, Inc.; Lyons, CO; DC Photonics, LLC; Dallas, TX; Decisive Point, LLC; Alexandria, VA; DEFTEC Corporation; Huntsville, AL; DNA TwoPointO Inc. dba ATUM; Newark, CA; Equivital, Inc.; New York, NY; Grifols Shared Services NA, Inc.; Los Angeles, CA; HDT Bio Corporation; Seattle, WA; Heat Biologics; Morrisville, NC; Interlog Corporation; Anaheim, CA; Koniku, Inc.; San Rafael, CA; Kytopen Corporation; Cambridge, MA; LDS Technology Consultants, Inc.; Warwick, PA; Lexem Strategy LLC dba PMnow; Stafford, VA; Microscale Devices, LLC; Apex, NC; NaNotics, LLC; Mill Valley, CA; Noblis, Inc.; Reston, VA; NOTA Laboratories, LLC; Ann Arbor; MI; NovoBiotic Pharmaceuticals, LLC; Cambridge, MA; NuMat Technologies, Inc.; Stokie, IL; NYU School of Medicine; New York; NY; OCMS Bio, LLC; Wynnewood, PA; One Health Group, LLC; Chantilly, VA; Partner Therapeutics, Inc.; Lexington, MA; Patricio Enterprises, Inc.; Stafford, VA; Presco, Inc.; Woodbridge, CT; Puritan Medical Products; Guilford, ME; Ridgeback Biotherapeutics LP; Miami, FL; Sanofi Pasteur VaxDesign Corporation; Orlando, FL; Selva Therapeutics, Inc.; Del Mar, CA; SINTX Technologies, Inc., Salt Lake City, UT; SitScape, Inc.; Vienna, VA; Social & Scientific Systems, Inc.; Silver Spring, MD; SX2 Technologies, LLC; Port Washington, WI; Synexis BioDefense Systems, LLC; Lenexa, KA; The Regents of the University of Colorado; Boulder, CO; The Ultran Group, Inc.; State College, PA; The University of Texas Medical Branch at Galveston; Galveston, TX; ThermoAnalytics, Calumet; WI Trauma Insight, LLC; San Antonio, TX; Trustees of Boston University; Boston, MA; University of Michigan; Ann Arbor, MI; Virginia Tech Applied Research Corporation; Arlington, VA; Visionary Products, Inc.; Draper, UT; ZabBio, Inc.; San Diego, CA have been added as parties to this venture.

Terminal Horizon Operations and Resourcing, Inc.; St. Petersburg, FL, has withdrawn as a party to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on January 16, 2020. A notice was published in the Federal Register pursuant to Section 6(b) of the Act on February 4, 2020 (85 FR 6222).

Suzanne Morris,
Chief, Premerger and Division Statistics, Antitrust Division.

[FR Doc. 2020-10739 Filed 5-18-20; 8:45 am]

BILLING CODE 4410-11-P